DEPARTMENT OF HEALTH AND HUMAN SERVICES

Administration for Children and Families

Expedited Office of Management and Budget Review and Public Comment; Proposed Information Collection Activity; Placement and Transfer of Unaccompanied Children Into Office of Refugee Resettlement Care Provider Facilities (OMB #0970-0554)

AGENCY: Office of Refugee Resettlement, Administration for Children and Families, U.S. Department of Health and Human Services.

ACTION: Request for public comments.

SUMMARY: The Office of Refugee Resettlement (ORR), Administration for Children and Families (ACF), U.S. Department of Health and Human Services (HHS), is requesting expedited review of an information collection request from the Office of Management and Budget (OMB) and inviting public comments on the proposed collection. This request will allow the Unaccompanied Children (UC) Program to expand specific policy and procedural protections to category 2 sponsors, children who wish to challenge placement in restrictive settings, and children seeking access to legal counsel.

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION: Description: ACF is requesting emergency review and approval of this information collection by OMB, as authorized under 44 U.S.C. 3507 (subsection j). The proposed revisions to this information collection are necessary to allow the ORR UC Program to comply with a court order. The information collected is essential to the mission of the agency and an unanticipated event has occurred that could reasonably cause a court-ordered deadline to be missed if normal PRA clearance procedures are followed. On June 29, 2018, Plaintiffs filed their Federal class action lawsuit in the Central District of California, western division, captioned Lucas R. et al v. Azar et al (Case No. CV 18-5741-DMG (PLAx)), asserting claims under the Flores consent decree, the Trafficking Victims Protection Reauthorization Act, the Due Process clause, and the First Amendment. Plaintiffs allege violation of UC rights in decisions regarding family reunification, placement in restrictive facilities, administration of psychotropic medication, and access to legal assistance. On August 30, 2022, the Court issued a Preliminary Injunction in response to the Cross-Motions for Summary Judgement on the family reunification, restrictive placement, and legal services claims. As part of that injunction, ORR is obligated to expand specific policy and procedural protections to category 2 sponsors, children who wish to challenge placement in restrictive settings, and children seeking access to legal counsel by the time the Final Order takes effect. Those policy and procedural protections include specific changes regarding notification of rights and documentation of restrictive placement, both of which require a new instrument and revision to an existing instrument in this information collection. The Final Order takes effect on October 29, 2022.

ORR added a new instrument titled Notice of Administrative Review (Form P-18) that serves as written notice of receipt of a Placement Review Panel request and provides the UC with information on next steps to take when requesting a review and reconsideration of the UC's placement in a restrictive setting. The notice also requests that the UC and/or their representative provide a written statement and decision on whether they are requesting a hearing. If a hearing is requested, the UC and/or their representative are also asked to provide:

• The name, email address, and telephone number for the UC's attorney or child advocate.

• The UC's preferred language.

• Whether the UC will need an interpreter (of if the UC's representative will provide an interpreter).

• The names and email addresses for the witnesses the UC or their representative plan to call at the hearing.

• Whether the UC has any special needs.

Additionally, ORR made the below-listed revisions to the Notice of Placement in a Restrictive Setting (Form P-4/4s/4d/4p). Many of the new fields in this form are also contained in the 30-Day Restrictive Placement Case Review (Form S-16), which is approved under OMB 0970-0553. The below revisions effectively merge Forms P-4 and S-16 into one form. ORR plans to submit a nonsubstantive change request to discontinue Form S-16 soon.

• Reorganized the form into six main sections—UC Information, ORR's Determinations Related to Safety, Reasons for Restrictive Placement, Summary of Supporting Evidence for Restrictive Placement, Your Rights to Challenge Your Placement, and UC's Acknowledgement of Receipt.

• Added the following fields under the UC Information section:

○ Preferred Language.

○ Out-of-Network Facility Name.

○ If applicable, explain the reasons that the UC is placed in an out-of-network facility.

○ Date of Placement at Current Restrictive Facility.

○ Date of Initial Notice of Placement.

○ Date Next Notice of Placement is Due (within 30 days).

• Created the ORR's Determinations Related to Safety section and added the following checkboxes:

○ UC presents a danger to self or community.

○ UC poses a risk of escape.

• Revised the Reasons for Restrictive Placement section as follows:

○ Under Secure Facility:

Removed checkbox “Have committed, threatened to commit, or engaged in serious, self-harming behavior that poses a danger to self while in ORR custody.”

Revised the checkbox “Have a history of or display sexual predatory behavior, or have inappropriate sexual behavior,” to instead read “Have committed sexual abuse, where there is coercion by overt or implied threats of violence against another person and/or there is an immediate danger to others.”

Added checkbox “Are pending transfer of discharge/release to:”

○ Under Residential Treatment Center:

Added checkbox “Are pending transfer of discharge/release to:”

○ Under Staff Secure Facility:

Replaced checkbox “Could be stepped down from a secure facility” with “Are pending transfer of discharge/release to:”

• Under Summary of Supporting Evidence for Restrictive Placement:

○ Split text box into three separate text boxes, one each for the case manager, case coordinator, and Federal field specialist.

○ Added fields for case manager, case coordinator, and Federal field specialist names and their overall recommendations.

• Added additional information on how UC may request to change their placement in a restrictive setting under the Your Rights to Challenge Your Placement section.

• Added a field for the name and title of the care provider/issuing official.

• Added fields for the language used to explain the form to the UC, the name of the person who explained the form, and their interpreter ID#, if applicable.

For information about all currently approved forms under this OMB number, see: https://www.reginfo.gov/public/do/PRAViewICR?ref_nbr=202110-0970-001.

Respondents: ORR grantee and contractor staff; UC; and other Federal agencies.

Annual Burden Estimates:

Note: These burden estimates include burden related to the revisions described above and currently approved forms for which we are not proposing any changes.

Estimated Burden Hours for Respondents
Information collection title | Annual number of respondents | Annual number of responses per respondent | Average burden hours per response | Annual total burden hours
Placement Authorization (Form P-1) | 262 | 536 | 0.08 | 11,235
Authorization for Medical, Dental, and Mental Health Care (Form P-2) | 262 | 536 | 0.08 | 11,235
Notice of Placement in a Restrictive Setting (Form P-4/4s) | 15 | 114 | 0.33 | 564
Long Term Foster Care Placement Memo (Form P-5) | 35 | 6 | 0.25 | 53
UC Referral (Form P-7) | 25 | 4,909 | 1.00 | 122,725
Care Provider Checklist for Transfers to Influx Care Facilities (Form P-8) | 262 | 19 | 0.25 | 1,245
Medical Checklist for Transfers (Form P-9A) | 262 | 49 | 0.08 | 1,027
Medical Checklist for Influx Transfers (Form P-9B) | 262 | 96 | 0.17 | 4,276
Transfer Request (Form P-10A) | 262 | 67 | 0.42 | 7,373
Transfer Request (Form P-10A) | 275 | 67 | 0.33 | 6,080
Influx Transfer Request (Form P-10B) | 262 | 96 | 0.42 | 10,564
Transfer Summary and Tracking (Form P-11) | 262 | 67 | 0.17 | 2,984
Program Entity (Form P-12) | 262 | 12 | 0.50 | 1,572
UC Profile (Form P-13) | 262 | 468 | 0.75 | 91,962
ORR Transfer Notification—ORR Notification to Immigration and Customs Enforcement Chief Counsel of Transfer of UC and Request to Change Address/Venue (Form P-14) | 262 | 67 | 0.17 | 2,984
Family Group Entity (Form P-15) | 25 | 120 | 0.08 | 240
Influx Transfer Manifest (Form P-16) | 3 | 12 | 0.33 | 12
Influx Transfer Manual and Prescreen Criteria Review (Form P-17) | 262 | 56,213 | 0.50 | 7,363,903
Notice of Administrative Review (Form P-18) | 200 | 1 | 0.83 | 166
Estimated Annual Burden Hours Total: |  |  |  | 7,640,200

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996); 45 CFR part 411; Lucas R. et al v. Azar et al (Case No. CV 18-5741-DMG (PLAx)) Preliminary Injunction.

Mary B. Jones,
ACF/OPRE Certifying Officer.

[FR Doc. 2022-23316 Filed 10-24-22; 8:45 am]

BILLING CODE 4184-45-P